DEPARTMENT OF LABOR

Occupational Safety and Health Administration

[Docket No. OSHA-2019-0005]

Stakeholder Meeting on Using Leading Indicators To Improve Safety and Health Outcomes

AGENCY: Occupational Safety and Health Administration (OSHA), Labor.

ACTION: Notice of stakeholder meeting.

SUMMARY: OSHA invites interested parties to participate in a stakeholder meeting to share information on their use of leading indicators to improve safety and health outcomes in the workplace. OSHA plans to use the information to create additional tools that may help employers with developing and using leading indicators. Participants are invited to provide responses to the questions included in this notice and share examples of leading indicators that they use to improve safety or health performance in their workplaces. This information can also be submitted to OSHA in writing. The meeting will take place at the Frances Perkins Building (See Address).

DATES: The stakeholder meeting will be held from 1:00 p.m. to 4:30 p.m. ET on November 7, 2019.

ADDRESSES: The meeting will take place in Conference Room N-4437 at the U.S. Department of Labor, 200 Constitution Avenue NW, Washington, DC 20210.

Registration to attend: The deadline for registering to attend the meeting is October 30, 2019. Please register online at: https://projects.erg.com/conferences/osha/register-osha-leadingindicators.htm. Registration will be available on a first-come, first-served basis.

Public Comments: You are invited to submit comments that address the questions for discussion listed in Section II of this notice. You may submit comments and additional materials electronically or by hard copy until February 7, 2020.

Electronically: You may submit comments and attachments electronically at http://www.regulations.gov. Search for Docket No. OSHA-2019-0005, and follow the instructions for making electronic submissions.

Mail, hand delivery, express mail, messenger or courier service: You may submit comments and attachments to the OSHA Docket Office, Docket No. 2019-0005, U.S. Department of Labor, Room N-3508, 200 Constitution Avenue NW, Washington, DC 20210.

Instructions: All submissions must include the agency name and the OSHA docket number for this Federal Register notice (Docket No. OSHA-2019-0005). Because of security-related procedures, submissions by regular mail may result in a significant delay in receipt. Please contact the OSHA Docket Office for information about security procedures for making submissions by express mail, hand (courier) delivery, and messenger service.

Requests for special accommodations: Please submit requests for special accommodations for this stakeholder meeting by October 30, 2019, to Ms. Gretta Jameson, OSHA, Office of Communications, Room N-3647, U.S. Department of Labor, 200 Constitution Avenue NW, Washington, DC 20210; telephone: (202) 693-1999; email: jameson.grettah@dol.gov.

FOR FURTHER INFORMATION CONTACT:

For press inquiries: Mr. Frank Meilinger, Director, OSHA Office of Communications; telephone: (202) 693-1999; email: meilinger.francis2@dol.gov.

For general and technical information about the meeting: Mr. Mark Hagemann, Director, Office of Safety Systems, OSHA, Directorate of Standards and Guidance; telephone: (202) 693-2222; email: hagemann.mark@dol.gov.

For copies of this Federal Register notice: Electronic copies of this Federal Register document are available at http://www.regulations.gov. This document, as well as news releases and other relevant information, also are available on OSHA's web page at http://www.osha.gov.

SUPPLEMENTARY INFORMATION:

I. Background

Many employers track their injury or illness rates using lagging indicators. Lagging indicators are useful because they can alert an employer to a safety and health program failure that may be causing injuries or illnesses. Unfortunately, lagging indicators do not reveal hazards until after an injury or illness occurs. Therefore, employers should also consider using leading indicators. Leading indicators are proactive, preventive, and predictive measures. A good safety and health program uses leading indicators to drive change and lagging indicators to measure effectiveness. The agency has published a guidance document that provides an overview of leading indicators and illustrates a systematic method for using leading indicators.

II. Questions for Consideration

To elicit feedback on these issues, OSHA is requesting comment from interested parties regarding the following questions. Case studies, real world examples, and any data to support the responses is encouraged.

• To what extent are leading indicators used in your workplace?

• Do you use leading indicators as a preventative tool for fixing workplace hazards, or as a tool for improving performance of your safety and health program?

• What leading indicators are most important in your workplace? Why were these indicators chosen?

• How do you determine the effectiveness of your leading indicators? How do you track your leading indicators?

• What leading indicators are, or could be, commonly used in your industry?

• What challenges, if any, have you encountered using leading indicators?

• How many employees are at your facility, and how many are involved in tracking leading indicators?

• How has the use of leading indicators changed the way you manage your safety and health program or other business operations?

• What should OSHA do to encourage employers to use leading indicators in addition to lagging indicators to improve safety management?

III. Meeting Format

The meeting will be a roundtable discussion of the questions posed by OSHA. Participants should focus on answering the questions provided in this notice. OSHA expects this to be a facilitated group discussion. Written comments may be provided to OSHA at the conclusion of the meeting, or as a follow-up to the meeting.

Authority and Signature

Loren Sweatt, Principal Deputy Assistant Secretary of Labor for Occupational Safety and Health, authorized the preparation of this notice under the authority granted by sections 4, 6, and 8 of the Occupational Safety and Health Act of 1970 (29 U.S.C. 653, 655, 657), and Secretary's Order 1-2012 (77 FR 3912), (Jan. 25, 2012).

Signed at Washington, DC, on September 24, 2019.
Loren Sweatt,
Principal Deputy Assistant Secretary of Labor for Occupational Safety and Health.

[FR Doc. 2019-21111 Filed 9-27-19; 8:45 am]

BILLING CODE 4510-26-P